DEPARTMENT OF HEALTH AND HUMAN SERVICES

Substance Abuse and Mental Health Services Administration

Notice of a Meeting

Pursuant to Public Law 92-463, notice is hereby given of a meeting of the Substance Abuse and Mental Health Services Administration (SAMHSA) National Advisory Council in December 2005.

The SAMHSA National Advisory Council will meet in an open session December 6 from 9 a.m. to 5:30 p.m. and on December 7 from 9 a.m. to 12:30 p.m. The meeting will include a SAMHSA Administrator's Report, presentations on SAMHSA's response to Hurricanes Katrina and Rita, discussions concerning issues on SAMHSA's appropriation and budget, and discussions on current administrative, legislative and program developments. In addition, the recipients of two SAMHSA-funded model programs will describe their approaches to prevent and treat substance abuse and mental health disorders. On December 7, the Race Against Drugs Motorcar will be on display in the SAMHSA parking lot.

Attendance by the public at the meeting will be limited to space available. Public comments are welcome. Please communicate with the individual listed as contact below to make arrangements to comment or to request special accommodations for persons with disabilities.

Substantive program information, a summary of the meeting, and a roster of Council members will be available, as soon as possible after the meeting, either by accessing the SAMHSA Council Web site, www.samhsa.gov/council/council, or may be obtained by communicating with the contact whose name and telephone number is listed below. The transcript for the meeting will also be available on the SAMHSA Council Web site within three weeks after the meeting.

Committee Name: SAMHSA National Advisory Council.

Date/Time: Tuesday, December 6, 2005, 9 a.m. to 5:30 p.m. (Open). Wednesday, December 7, 2005, 9 a.m. to 12:30 p.m. (Open).

Place: 1 Choke Cherry Road, Sugarloaf and Seneca Conference Rooms, Rockville, Maryland 20857.

Contact: Toian Vaughn, Executive Secretary, SAMHSA National Advisory Council and SAMHSA Committee Management Officer, 1 Choke Cherry Road, Room 8-1089, Rockville, Maryland 20857. Telephone: (240) 276-2307; FAX: (240) 276-2220 and E-mail: toian.vaughn@samhsa.hhs.gov.

Dated: November 10, 2005.
Toian Vaughn,
Executive Secretary, SAMHSA National, Advisory Council and SAMHSA Committee, Management Officer.

[FR Doc. 05-22788 Filed 11-16-05; 8:45 am]

BILLING CODE 4162-20-P